OFFICE OF PERSONNEL MANAGEMENT

Excepted Service

AGENCY: U.S. Office of Personnel Management (OPM).

ACTION: Notice.

SUMMARY: This notice identifies Schedule A, B, and C appointing authorities applicable to a single agency that were established or revoked from August 1, 2013, to August 31, 2013.

FOR FURTHER INFORMATION CONTACT: Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No schedule A authorities to report during August 2013.

Schedule B

No schedule B authorities to report during August 2013.

Schedule C

The following Schedule C appointing authorities were approved during August 2013.

Agency name | Organization name | Position title | Authorization number | Effective date
DEPARTMENT OF AGRICULTURE | Office of the Secretary | Executive Assistant | DA130122 | 8/6/2013
| Office of the Under Secretary for Marketing and Regulatory Programs | Confidential Assistant | DA130126 | 8/8/2013
| Office of the Under Secretary for Marketing and Regulatory Programs | Senior Advisor | DA130176 | 8/16/2013
| Office of the Secretary | Policy Assistant | DA130209 | 8/21/2013
| Office of Communications | Deputy Director of Scheduling | DA130210 | 8/21/2013
DEPARTMENT OF COMMERCE | Office of the Under Secretary | Senior Policy Advisor | DC130077 | 8/7/2013
| Assistant Secretary and Director General for United States and Foreign Commercial Service | Director of Outreach | DC130086 | 8/20/2013
| Office of Policy and Strategic Planning | Special Assistant | DC130089 | 8/26/2013
COMMISSION ON CIVIL RIGHTS | Commissioners | Special Assistant | CC130004 | 8/15/2013
DEPARTMENT OF DEFENSE | Office of the Assistant Secretary of Defense (Special Operations/Low- Intensity Conflict and Interdependent Capabilities) | Special Assistant for Special Operations and Low-Intensity Conflict | DD130114 | 8/20/2013
| Office of the Assistant Secretary of Defense (International Security Affairs) | Special Assistant for International Security Affairs | DD130118 | 8/20/2013
| Office of the Assistant Secretary of Defense (International Security Affairs) | Special Assistant for Russia, Ukraine and Eurasia | DD130119 | 8/29/2013
DEPARTMENT OF THE ARMY | Office of the Assistant Secretary of the Army (Acquisition, Logistics and Technology) | Special Assistant (Alternate) | DW130054 | 8/30/2013
DEPARTMENT OF THE NAVY | Office of the Assistant Secretary of the Navy (Manpower and Reserve Affairs) | Special Assistant | DN130007 | 8/9/2013
DEPARTMENT OF EDUCATION | Office of the Secretary | Special Assistant | DB130064 | 8/21/2013
DEPARTMENT OF ENERGY | Associate Administrator for External Affairs | Deputy Director for Communications | DE130092 | 8/2/2013
| Office of the Secretary of Energy Advisory Board | Deputy Director Secretarial Boards and Council | DE130085 | 8/9/2013
| Office of the Deputy Secretary | Special Assistant | DE130090 | 8/20/2013
| Office of Assistant Secretary for Policy and International Affairs | Special Assistant | DE130106 | 8/26/2013
| Office of Management | Scheduler | DE130105 | 8/28/2013
ENVIRONMENTAL PROTECTION AGENCY | Office of the Administrator | Special Assistant | EP130037 | 8/6/2013
|  | Special Assistant for Public Engagement | EP130038 | 8/6/2013
| The Deputy Administrator | Special Assistant for Policy and Operations | EP130033 | 8/21/2013
|  | Policy Advisor | EP130034 | 8/28/2013
EXPORT-IMPORT BANK | Export Finance | Senior Vice President of Export Finance | EB130004 | 8/26/2013
FARM CREDIT ADMINISTRATION | Office of the Board | Executive Assistant (2) | FL130005 | 8/5/2013
|  |  | FL130004 | 8/6/2013
DEPARTMENT OF HEALTH AND HUMAN SERVICES | Health Resources and Services Administration Office of the Administrator | Special Assistant | DH130111 | 8/7/2013
| Office of the Assistant Secretary for Public Affairs | Director of Speechwriting | DH130110 | 8/9/2013
| Office of the Assistant Secretary for Health | Policy Advisor | DH130114 | 8/22/2013
DEPARTMENT OF HOMELAND SECURITY | Office of the Assistant Secretary for Public Affairs | Assistant Press Secretary | DM130147 | 8/1/2013
| Federal Emergency Management Agency | Director, Intergovernmental Affairs | DM130157 | 8/20/2013
| U.S. Customs and Border Protection | Senior Advisor | DM130160 | 8/23/2013
DEPARTMENT OF THE INTERIOR | Secretary's Immediate Office | White House Liaison | DI130054 | 8/30/2013
DEPARTMENT OF JUSTICE | Office of Public Affairs | Public Affairs Specialist | DJ130078 | 8/1/2013
| Office of Justice Programs | Senior Advisor | DJ130084 | 8/20/2013
| Antitrust Division | Counsel | DJ130086 | 8/20/2013
DEPARTMENT OF LABOR | Office of the Deputy Secretary | Chief Innovation Officer | DL130042 | 8/5/2013
| Office of Public Affairs | Press Secretary | DL130053 | 8/19/2013
OFFICE OF MANAGEMENT AND BUDGET | Legislative Affairs | Deputy for Legislative Affairs | BO130027 | 8/8/2013
OVERSEAS PRIVATE INVESTMENT CORPORATION | Overseas Private Investment Corporation | Deputy Chief of Staff | PQ130003 | 8/15/2013
PENSION BENEFIT GUARANTY CORPORATION | Office of the Executive Director | Chief of Staff | BG130001 | 8/8/2013
| Office of Policy and External Affairs | Deputy Chief Policy Officer | BG130002 | 8/20/2013
DEPARTMENT OF STATE | Office of the Secretary | Special Assistant | DS130107 | 8/6/2013
UNITED STATES INTERNATIONAL TRADE COMMISSION | Office of Commissioner Johanson | Staff Assistant (Legal) | TC130015 | 8/9/2013

The following Schedule C appointing authorities were revoked during August 2013.

Agency name | Organization name | Position title | Authorization number | Vacate date
DEPARTMENT OF COMMERCE | Office of the Assistant Secretary for Economic Development | Special Advisor | DC120158 | 8/2/2013
| Office of Executive Secretariat | Confidential Assistant | DC100121 | 8/9/2013
| Office of the Assistant Secretary for Economic Development | Senior Advisor | DC110135 | 816/2013
| Office of Business Liaison | Special Assistant | DC120052 | 8/16/2013
| Office of Legislative and Intergovernmental Affairs | Confidential Assistant | DC120044 | 8/25/2013
DEPARTMENT OF EDUCATION | Office of the Deputy Secretary | Special Assistant | DB110019 | 8/4/2013
DEPARTMENT OF ENERGY | National Nuclear Security Administration | Special Assistant | DE120009 | 8/9/2013
| Office of the Secretary | Special Assistant to the Chief of Staff | DE130042 | 8/16/2013
DEPARTMENT OF HOMELAND SECURITY | U.S. Immigration and Customs Enforcement | Director of Congressional Relations | DM090458 | 8/10/2013
| Office of the Assistant Secretary for Public Affairs | Press Assistant | DM110127 | 8/10/2013
| Office of the Under Secretary for National Protection and Programs Directorate | Program Coordinator | DM110192 | 8/23/2013
DEPARTMENT OF JUSTICE | Office of Public Affairs | Deputy Director | DJ120009 | 8/2/2013
DEPARTMENT OF LABOR | Office of the Deputy Secretary | Senior Advisor | DL100053 | 8/10/2013
DEPARTMENT OF THE INTERIOR | Secretary's Immediate Office | White House Liaison | DI120009 | 8/10/2013
|  | Special Assistant For Advance | DI110049 | 8/16/2013
DEPARTMENT OF THE TREASURY | Assistant Secretary (Legislative Affairs) | Special Assistant | DY110094 | 8/10/2013
DEPARTMENT OF TRANSPORTATION | General Counsel | Special Assistant to the General Counsel | DT100050 | 8/2/2013
| Public Affairs | Associate Director for Speech-Writing | DT120057 | 8/16/2013
|  | Press Secretary | DT120026 | 8/23/2013
ENVIRONMENTAL PROTECTION AGENCY | Office of the Associate Administrator for Congressional and Intergovernmental Relations | Deputy Associate Administrator for Office of Congressional Affairs | EP110039 | 8/10/2013
| Office of the Administrator | Deputy White House Liaison | EP120008 | 8/24/2013
EXPORT-IMPORT BANK | Export-Import Bank | Deputy Chief of Staff | EB110012 | 8/23/2013
FEDERAL ENERGY REGULATORY COMMISSION | Office of the Chairman | Program Analyst | DR110007 | 8/10/2013
FEDERAL MINE SAFETY AND HEALTH REVIEW COMMISSION | Office of the Commissioners | Attorney Advisor (General) | FR120001 | 8/7/2013

Authority: 5 U.S.C. 3301 and 3302; E.O. 10577, 3 CFR, 1954-1958 Comp., p. 218.

U.S. Office of Personnel Management.
Katherine Archuleta,
Director.

[FR Doc. 2013-28666 Filed 11-27-13; 8:45 am]

BILLING CODE 6325-39-P